DEPARTMENT OF THE TREASURY

Agency Information Collection Activities; Submission for OMB Review; Comment Request; Multiple Internal Revenue Service Information Collection Requests

AGENCY: Departmental Offices, U.S. Department of the Treasury.

ACTION: Notice.

SUMMARY: The Department of the Treasury will submit the following information collection requests to the Office of Management and Budget (OMB) for review and clearance in accordance with the Paperwork Reduction Act of 1995, on or after the date of publication of this notice. The public is invited to submit comments on these requests.

DATES: Comments must be received on or before June 28, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Molly Stasko by emailing PRA@treasury.gov, calling (202) 622-8922, or viewing the entire information collection request at www.reginfo.gov.

SUPPLEMENTARY INFORMATION:

Internal Revenue Service (IRS)

1. Title: Employee Representative's Quarterly Railroad Tax Return.

OMB Control Number: 1545-0002.

Type of Review: Extension of a currently approved collection.

Description: Employee representatives file Form CT-2 quarterly to report compensation on which railroad retirement taxes are due. The IRS uses this information to ensure that employee representatives have paid the correct tax. Form CT-2 also transmits the tax payment.

Form Number: IRS Form CT-2.

Affected Public: Individuals or Households.

Estimated Number of Respondents: 112.

Frequency of Response: Quarterly.

Estimated Total Number of Annual Responses: 112.

Estimated Time per Respondent: 1 hour 11minutes.

Estimated Total Annual Burden Hours: 132 hours.

2. Title: Cancellation of Debt.

OMB Control Number: 1545-1424.

Type of Review: Extension of a currently approved collection.

Description: Form 1099-C is used by Federal government agencies, financial institutions, and credit unions to report the cancellation or forgiveness of a debt of $600 or more, as required by section 6050P of the Internal Revenue Code. The IRS uses the form to verify compliance with the reporting rules and to verify that the debtor has included the proper amount of canceled debt in income on his or her income tax return. These regulations under section 6050P of the Internal Revenue Code (Code), relating to the rule in § 1.6050P-1(b)(2)(iv) that the 36-month non-payment testing period is an identifiable event triggering an information reporting obligation on Form 1099-C for discharge of indebtedness by certain entities.

Form Number: IRS Form 1099-C.

Regulation Project Number: TD 9793.

Affected Public: Businesses and other for-profit organizations; and not-for-profit institutions.

Estimated Number of Respondents: 6,540,900.

Frequency of Response: On occasion.

Estimated Total Number of Annual Responses: 6,540,900.

Estimated Time per Response: 13 minutes.

Estimated Total Annual Burden Hours: 1,438,998 hours.

3. Title: Electronic Filing of Form W-4.

OMB Control Number: 1545-1435.

Type of Review: Extension of a currently approved collection.

Description: Information is required by the Internal Revenue Service to verify compliance with regulation section 31.3402(f)(2)-1(g)(1), which requires submission to the Service of certain withholding exemption certificates. The affected respondents are employers that choose to make electronic filing of Forms W-4 available to their employees.

Regulation Project Number: TD 8706.

Affected Public: Businesses and other for-profit organizations; not-for-profit institutions; and State, Local or Tribal governments.

Estimated Number of Respondents: 2,000.

Frequency of Response: On occasion.

Estimated Total Number of Annual Responses: 160,000.

Estimated Time per Response: 15 minutes.

Estimated Total Annual Burden Hours: 40,000 hours.

4. Title: Limited Payability Claim Against the United States for Proceeds of An Internal Revenue Refund Check.

OMB Control Number: 1545-2024.

Type of Review: Extension of a currently approved collection.

Description: Form 13818, Limited Payability Claim Against the United States for the Proceeds of an Internal Revenue Refund Check, is sent to the payee (taxpayer). This form is designed to provide taxpayers a method to file a claim for a replacement check when the original check is over 12 months old.

Form Number: IRS Form 13818.

Affected Public: Individual or Households; and Businesses and other for-profit organizations.

Estimated Number of Respondents: 6,000.

Frequency of Response: On occasion.

Estimated Total Number of Annual Responses: 6,000.

Estimated Time per Response: 1 hour.

Estimated Total Annual Burden Hours: 6,000 hours.

5. Title: S Corporation Guidance under Section 958 (Rules for Determining Stock Ownership) and Guidance Regarding the Treatment of Qualified Improvement Property under the Alternative Depreciation System for Purposes of the QBAI Rules for FDII and GILTI.

OMB Control Number: 1545-2291.

Type of Review: Extension of a currently approved collection.

Description: The Treasury Department and the IRS published final regulations (TD 9866) in the Federal Register (84 FR 29288) under § 951A (final regulations). The final regulations adopted “aggregate treatment” with respect to income inclusion amounts arising from section 951A (the global intangible low tax income inclusion or GILTI) for partnerships. Under aggregate treatment, for purposes of determining the GILTI inclusion amount of any partner of a domestic partnership, each partner is treated as proportionately owning the stock of a controlled foreign corporation (CFC) owned by the partnership within the meaning of § 958(a) in the same manner as if the domestic partnership were a foreign partnership. Because only a U.S. person that is a U.S. shareholder can have a GILTI inclusion amount, a partner that is not a U.S. shareholder of a partnership-owned CFC does not have a GILTI inclusion amount determined by reference to the partnership-owned CFC. Section 1.951A-1(e)(1) applies to taxable years of foreign corporations beginning after December 31, 2017, and to taxable years of U.S. shareholders in which or with which such taxable years of foreign corporations' end. There are no changes being made to the regulations at this time.

Regulation Project Number: TD 9986 and Notice 2020-69.

Affected Public: Individual or Households.

Estimated Number of Respondents: 3,688.

Frequency of Response: On occasion.

Estimated Total Number of Annual Responses: 3,688.

Estimated Time per Response: 30 minutes.

Estimated Total Annual Burden Hours: 1,844 hours.

Authority: 44 U.S.C. 3501 et seq.

Dated: May 24, 2021.
Molly Stasko,
Treasury PRA Clearance Officer.

[FR Doc. 2021-11210 Filed 5-26-21; 8:45 am]

BILLING CODE 4830-01-P